DEPARTMENT OF COMMERCE

Foreign-Trade Zones Board

[Order No. 2134]

Reorganization and Expansion of Foreign-Trade Zone 164 Under Alternative Site Framework; Muskogee, Oklahoma

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Muskogee City-County Port Authority, grantee of Foreign-Trade Zone 164, submitted an application to the Board (FTZ Docket B-22-2022, docketed May 31, 2022) for authority to reorganize and expand under the ASF with a service area of Muskogee County, Oklahoma, adjacent to the Tulsa Customs and Border Protection port of entry, FTZ 164's existing Sites 1, 2 and 3 would be categorized as magnet sites, and the grantee proposes a subzone (Subzone 164A);

Whereas, notice inviting public comment was given in the Federal Register (87 FR 34240, June 6, 2022) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 164 under the ASF is approved, subject to the FTZ Act and the Board's regulations, including section 400.13, to the Board's standard 2,000-acre activation limit for the zone, to an ASF sunset provision for magnet sites that would terminate authority for Sites 2 and 3 if not activated within five years from the month of approval, and to an ASF sunset provision for subzone/usage-driven sites that would terminate authority for the site of Subzone 164A if no foreign-status merchandise is admitted for a bona fide customs purpose within three years from the month of approval.

Dated: October 12, 2022.
Lisa W. Wang,
Assistant Secretary for Enforcement and Compliance, Alternate Chairperson, Foreign-Trade Zones Board.

[FR Doc. 2022-22621 Filed 10-17-22; 8:45 am]

BILLING CODE 3510-DS-P